INTERNATIONAL TRADE COMMISSION

[Investigation No. 731-TA-1013 (Second Review)]

Saccharin From China

Determination

On the basis of the record ¹ developed in the subject five-year review, the United States International Trade Commission (“Commission”) determines, pursuant to the Tariff Act of 1930, that revocation of the antidumping duty order on saccharin from China would not be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted this review on May 1, 2014 (79 FR 24749) and determined on August 4, 2014 that it would conduct a full review (79 FR 47478, August 13, 2014). Notice of the scheduling of the Commission's review and of a public hearing to be held in connection therewith was given by posting copies of the notice in the Office of the Secretary, U.S. International Trade Commission, Washington, DC, and by publishing the notice in the Federal Register on October 30, 2014 (79 FR 66740). The hearing was held in Washington, DC, on March 31, 2015, and all persons who requested the opportunity were permitted to appear in person or by counsel.

The Commission made this determination pursuant to section 751(c) of the Tariff Act of 1930 (19 U.S.C. 1675(c)). It completed and filed its determination in this review on May 20, 2015. The views of the Commission are contained in USITC Publication 4534 (May 2015), entitled Saccharin from China: Investigation No. 731-TA-1013 (Second Review).

By order of the Commission.
Issued: May 21, 2015.
Lisa R. Barton,
Secretary to the Commission.

[FR Doc. 2015-12827 Filed 5-27-15; 8:45 am]

BILLING CODE 7020-02-P